SMALL BUSINESS ADMINISTRATION

[License No. 05/05-0298]

LaSalle Capital Group II-A, L.P.; Notice Seeking Exemption Under Section 312 of the Small Business Investment Act, Conflicts of Interest

Notice is hereby given that LaSalle Capital Group II-A, L.P. 70 W Madison Street, Suite 5710, Chicago, IL 60602, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). LaSalle Capital Group II-A, L.P. proposes to merge Westminster Foods II, LLC, 1 Scale Avenue, Suite 8, Rutland, Vermont 05701 and Dr. Lucy's LLC, 7420 Central Business Park Drive, Suite 1, Norfolk, Virginia 23513 together. The financing is brought within the purview of § 107.730(a)(1) of the Regulations because Westminster Foods II, LLC and Dr. Lucy's, LLC all Associates of LaSalle Capital Group II-A, L.P., will merge together as Westminster Foods II, LLC, and therefore this transaction is considered a financing of an Associate requiring prior SBA approval.

Notice is hereby given that any interested person may submit written comments on the transaction, within fifteen days of the date of this publication, to the Associate Administrator for Investment, U.S. Small Business Administration, 409 Third Street SW., Washington, DC 20416.

Dated: November 18, 2015.
John R. Williams,
Acting Deputy Associate Administrator, Office of Investment and Innovation.

[FR Doc. 2015-30246 Filed 11-27-15; 8:45 am]

BILLING CODE 8025-01-P